FEDERAL COMMUNICATIONS COMMISSION

47 CFR Part 73

[MB Docket No. 21-52; RM-11877; DA 21-594; FR ID 28827]

Television Broadcasting Services Amarillo, Texas

AGENCY: Federal Communications Commission.

ACTION: Final rule.

SUMMARY: On February 12, 2021, the Media Bureau, Video Division (Bureau) issued a Notice of Proposed Rulemaking in response to a petition for rulemaking filed by KVII Licensee, LLC (Licensee), the licensee of KVII, channel 7 (ABC), Amarillo, Texas, requesting the substitution of channel 20 for channel 7 at Amarillo in the DTV Table of Allotments. For the reasons set forth in the Report and Order referenced below, the Bureau amends FCC regulations to substitute channel 20 for channel 7 at Amarillo.

DATES: Effective June 3, 2021.

FOR FURTHER INFORMATION CONTACT: Joyce Bernstein, Media Bureau, at (202) 418-1647 or Joyce.Bernstein@fcc.gov.

SUPPLEMENTARY INFORMATION: The proposed rule was published at 86 FR 17110 on April 1, 2021. The Licensee filed comments in support of the petition reaffirming its commitment to apply for channel 20. No other comments were filed. The Licensee asserts that KVII, as a VHF channel station, has a long history of dealing with severe reception problems. In addition, the Licensee states that the substitution of channel 20 for channel 7 will result in enhanced signal levels to a large percentage of the population within KVII's service area, without any predicted loss of coverage and with a predicted increase of persons in the KVII service area.

This is a synopsis of the Commission's Report and Order, MB Docket No. 21-52; RM-11877; DA 21-594, adopted May 20, 2021, and released May 20, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
India Malcolm,
Assistant Bureau Chief for Management.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(i), amend the Post-Transition Table of DTV Allotments, under Texas, by revising the entry for Amarillo to read as follows:

§ 73.622 Digital television table of allotments.

* * * * *

(i) * * *

Community | Channel No.
* * * * *
TEXAS
* * * * *
Amarillo | * 9, 10, 15, 19, 20
* * * * *

[FR Doc. 2021-11697 Filed 6-2-21; 8:45 am]

BILLING CODE 6712-01-P